DEPARTMENT OF HOMELAND SECURITY

[Docket No. DHS-2023-0046]

Establishment of Faith-Based Security Advisory Council Subcommittee

AGENCY: The Office of Partnership and Engagement (OPE), The Department of Homeland Security (DHS).

ACTION: Notice of a new tasking for the Faith-Based Security Advisory Council (FBSAC).

SUMMARY: On November 14, 2023, the Secretary of DHS, Alejandro N. Mayorkas, issued a memorandum tasking the Faith-Based Security Advisory Council (FBSAC) to establish a subcommittee further outlined below. This notice is not a solicitation for membership.

FOR FURTHER INFORMATION CONTACT: Sameer Hossain, Designated Federal Officer, Faith-Based Security Advisory Council of Department of Homeland Security, at FBSAC@hq.dhs.gov or 202-891-2876.

SUPPLEMENTARY INFORMATION: The FBSAC provides organizationally independent, strategic, timely, specific, and actionable advice to the Secretary through the OPE Assistant Secretary, who serves as the DHS Faith-Based Organizations Security Coordinator on security and preparedness matters related to places of worship, faith communities, and faith-based organizations. The Council consists of members who are: faith-based organization security officials; faith-based organization leaders; faith leaders; State and local public safety, law enforcement, and emergency management leaders; and a representative from the Department of Justice or Federal Bureau of Investigation.

The Secretary has requested that the FBSAC form a new subcommittee to study and provide recommendations in the following critical area for the Department:

1. Combatting online child sexual exploitation and abuse (CSEA), providing recommendations on how DHS can partner with faith-based organizations to inform faith-based leaders and communities about how to recognize and respond appropriately to incidents of online CSEA; and an assessment to gauge the strengths, gaps, and opportunities in faith-based community awareness, engagement, and whole-of-community involvement. This assessment should include recommendations for faith-based organization collaboration to raise public awareness of online CSEA.

Schedule: The subcommittees findings and recommendations will be submitted to the FBSAC for its deliberation and vote during a public meeting within 150 days of November 14, 2023.

Dated: November 16, 2023.
Sameer Hossain,
Designated Federal Officer, Faith-Based Security Advisory Council, U.S. Department of Homeland Security.

[FR Doc. 2023-25774 Filed 11-21-23; 8:45 am]

BILLING CODE 9112-FN-P